DEPARTMENT OF TRANSPORTATION

Federal Highway Administration

Draft Environmental Impact Statement: Dubois County, Indiana

AGENCY: Federal Highway Administration (FHWA), DOT.

ACTION: Notice of Intent.

SUMMARY: The FHWA is issuing this notice to advise the public that an environmental impact statement (EIS) will be prepared for a proposed highway project in Dubois County, Indiana.

FOR FURTHER INFORMATION CONTACT: Mr. Robert Dirks, Environmental Specialist, Federal Highway Administration, Room 254, Federal Office Building, 575 North Pennsylvania Street, Indianapolis, Indiana 46204, Telephone (317) 226-7492.

SUPPLEMENTARY INFORMATION: The FHWA, in cooperation with the Indiana Department of Transportation (INDOT), will prepare an EIS for a proposed project to improve the transportation system in the U.S. 231 corridor between Interstate 64 and State Road 56 in Dubois County, Indiana. The proposed project will involve the study of potential bypasses around Huntingburg and Jasper.

The proposed EIS and accompanying engineering analysis are the result of INDOT's identification of U.S. 231 in southwest Indiana for improvements as part of the current and ongoing transportation program. Given the current and projected traffic volumes and the existing geometric deficiencies, improvements to U.S. 231 are considered necessary to provide for a safe, efficient, and economical transportation network that will meet traffic demands in the area. The proposed improvements are also intended to be environmentally sound. System improvements will be examined based on the purposes of addressing roadway deficiencies, improving safety, reducing congestion, and enhancing system linkage.

Alternatives under consideration include: (1) Taking no action, (2) transportation system management, (3) upgrading and improving existing roadways, and (4) construction of two additional lanes adjacent to the existing two-lane roadway with bypasses of Huntingburg and Jasper on new alignment. Design variations of grade and alignment will be incorporated into and studied for the various build alternatives.

A scoping process has been initiated that involves all appropriate federal, state, and local agencies, and private organizations and citizens who have previously expressed or are known to have interest in this project. Several public meetings were held during the location study for the proposed project to engage the regional community in the decision making process and to obtain public comment. A resource agency scoping meeting will be held in Indianapolis when appropriate. Letters describing the proposed action and soliciting comments will be sent to all appropriate federal, state, and local agencies, and private organizations and citizens who have expressed or are known to have interest in this project. A public meeting will be held in Jasper when appropriate. In addition, public hearings will be held to present the findings of the draft EIS (DEIS) and engineering analysis. Public notice will be given of the time and place of informational meetings and public hearing. The DEIS will be available for public and agency review and comment prior to the public hearings.

To ensure the full range of issues related to this proposed action are addressed and all significant issues are identified, comments and suggestions are invited from all interested parties. Comments or questions concerning this proposed action and the EIS should be directed to FHWA at the address provided above.

(Catalog of Federal Domestic Assistance Program No. 20.205, Highway Planning and Construction. The regulations implementing Executive Order 12373 regarding intergovernmental consultation on Federal programs and activities apply to this program.)

Authority: 23 U.S.C. 315; 49 CFR 1.48.

Issued on: May 22, 2000.
Robert Dirks,
Environmental Specialist, Indianapolis, Indiana.

[FR Doc. 00-13870 Filed 6-1-00; 8:45 am]

BILLING CODE 4910-22-M